COMMITTEE FOR PURCHASE FROM PEOPLE WHO ARE BLIND OR SEVERELY DISABLED

Procurement List; Additions

AGENCY: Committee for Purchase From People Who Are Blind or Severely Disabled.

ACTION: Additions to the Procurement List.

SUMMARY: This action adds to the Procurement List products and services to be furnished by nonprofit agencies employing persons who are blind or have other severe disabilities.

DATES: Effective Date: 12/28/2008.

ADDRESSES: Committee for Purchase From People Who Are Blind or Severely Disabled, Jefferson Plaza 2, Suite 10800, 1421 Jefferson Davis Highway, Arlington, Virginia, 22202-3259.

FOR FURTHER INFORMATION CONTACT: Emily A. Covey, Telephone: (703) 603-7740, Fax: (703) 603-0655, or e-mail CMTEFedReg@AbilityOne.gov.

SUPPLEMENTARY INFORMATION:

Additions:

On 10/03/2008 and 10/10/2008, the Committee for Purchase From People Who Are Blind or Severely Disabled published notice (73 FR193, pages 57589 and 57590 and 73 FR198, pages 60236-60237) of proposed additions to the Procurement List.

After consideration of the material presented to it concerning capability of qualified nonprofit agencies to provide the products and services and impact of the additions on the current or most recent contractors, the Committee has determined that the products and services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 46-48c) in connection with the products and services proposed for addition to the Procurement List.

End of Certification

Accordingly, the following products and services are added to the Procurement List:

Products

Laminated Wiper, Biodegradable.

NSN: 7920-00-NIB-0439.

NPA: East Texas Lighthouse for the Blind, Tyler, TX.

Contracting Activity: FEDERAL ACQUISITION SERVICE, GSA/FAS SOUTHWEST SUPPLY CENTER (QSDAC).

Coverage: B-list for the broad government requirement as aggregated by the General Services Administration.

Bag, Sand, Polypropylene, 26″ x 14″, Green

NSN: 8105-00-142-9345—Bag, Sand, Polypropylene, 26″ x 14″, Green.

NPA: Southeast Vocational Alliance, Inc., Houston, TX.

Contracting Activity: DEFENSE LOGISTICS AGENCY, DEFENSE SUPPLY CENTER PHILADELPHIA.

Coverage: C-list for the remaining 50% of the Defense Supply Center Philadelphia requirement.

Services

Service Type/Location: Base Supply Center, BSC, NAWS China Lake, 1 Administration Circle, China Lake, CA.

NPA: The Lighthouse for the Blind, Inc. (Seattle Lighthouse), Seattle, WA.

Contracting Activity: DEPT OF THE NAVY, FISC SAN DIEGO.

Service Type/Location: Administrative Services, Delaware Valley Office, GSA Region 3, Trenton NJ, 402 E State Street, Trenton, NJ.

NPA: Occupational Training Center of Burlington County, Mt. Holly, NJ.

Contracting Activity: PUBLIC BUILDINGS SERVICE, GSA/PBS/R03 PHILATLANTIC.

Service Type/Location: Laundry Services, FEMA—NETC, 16825 South Seton Avenue, Emmitsburg, MD,

NPA: Jeanne Bussard Center, Inc., Frederick, MD,

Contracting Activity: FEDERAL EMERGENCY MANAGEMENT AGENCY, NETC ACQUISITION SECTION.

Emily A. Covey,
Acting Director, Program Operations.

[FR Doc. E8-28251 Filed 11-26-08; 8:45 am]

BILLING CODE 6353-01-P